DEPARTMENT OF COMMERCE

National Oceanic and Atmospheric Administration

RIN 0648-XD244

North Pacific Fishery Management Council; Public Meeting

AGENCY: National Marine Fisheries Service (NMFS), National Oceanic and Atmospheric Administration (NOAA), Commerce.

ACTION: Notice of a public meeting.

SUMMARY: The North Pacific Fishery Management Council's (NPFMC) Bering Sea Aleutian Islands (BSAI) Crab Plan Team (CPT) will meet in Juneau, AK.

DATES: The meeting will be held May 5-8, 2014, from 9 a.m. to 5 p.m.

ADDRESSES: The meeting will be held at the Federal Building, 709 W 9th Street, Room 420, Juneau, AK.

Council address: North Pacific Fishery Management Council, 605 W. 4th Avenue, Suite 306, Anchorage, AK 99501-2252.

FOR FURTHER INFORMATION CONTACT: Diana Stram, at (907) 271-2809.

SUPPLEMENTARY INFORMATION: The Plan Team will review final assessments for three BSAI crab stocks (Aleutian Islands golden king crab, Adak red king crab, Norton Sound red king crab), model scenarios for fall 2014 stock assessments, review of a generic model application, discussion of crab bycatch limits (data needs and evaluation of existing measures in groundfish fisheries, research priorities, EBS time series analysis, current research efforts, and data workshop plans.

The Agenda is subject to change, and the latest version will be posted at http://www.alaskafisheries.noaa.gov/npfmc/

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: April 15, 2014.
Tracey L. Thompson,
Acting Deputy Director, Office of Sustainable Fisheries, National Marine Fisheries Service.

[FR Doc. 2014-08875 Filed 4-17-14; 8:45 am]

BILLING CODE 3510-22-P